DEPARTMENT OF ENERGY

Federal Energy Regulatory Commission

Combined Notice of Filings

May 4, 2009.

Take notice that the Commission has received the following Natural Gas Pipeline Rate and Refund Report filings:

Docket Numbers: RP96-272-091.

Applicants: Northern Natural Gas Company.

Description: Northern Natural Gas Company submits 51 Revised Sheet 66 et al of its FERC Gas Tariff, Fifth Revised Volume 1, to be effective 5/1/09.

Filed Date: 04/30/2009.

Accession Number: 20090501-0154.

Comment Date: 5 p.m. Eastern Time on Tuesday, May 12, 2009.

Docket Numbers: RP96-312-190.

Applicants: Tennessee Gas Pipeline Company.

Description: Tennessee Gas Pipeline Company submits for acceptance negotiated rate arrangement, Service Packet 72921with NJR Energy Services etc to be effective 6/1/09.

Filed Date: 04/30/2009.

Accession Number: 20090501-0022.

Comment Date: 5 p.m. Eastern Time on Tuesday, May 12, 2009.

Docket Numbers: RP96-312-191.

Applicants: Tennessee Gas Pipeline Company.

Description: Tennessee Gas Pipeline Company submits for acceptance negotiated rate arrangement, Service Package 72923 with BP Energy Company etc to be effective 6/1/09.

Filed Date: 04/30/2009.

Accession Number: 20090501-0023.

Comment Date: 5 p.m. Eastern Time on Tuesday, May 12, 2009.

Docket Numbers: RP96-312-192.

Applicants: Tennessee Gas Pipeline Company.

Description: Tennessee Gas Pipeline Company submits for acceptance negotiated rate arrangement, Service Package 72919 with Tenaska Gas Storage etc to be effective 6/1/09.

Filed Date: 04/30/2009.

Accession Number: 20090501-0024.

Comment Date: 5 p.m. Eastern Time on Tuesday, May 12, 2009.

Docket Numbers: RP96-312-193.

Applicants: Tennessee Gas Pipeline Company.

Description: Tennessee Gas Pipeline Company submits for acceptance negotiated rate arrangement, Service Package 72917 with Louis Dreyfus Energy Services etc to be effective 6/1/09.

Filed Date: 04/30/2009.

Accession Number: 20090501-0026.

Comment Date: 5 p.m. Eastern Time on Tuesday, May 12, 2009.

Docket Numbers: RP96-312-194.

Applicants: Tennessee Gas Pipeline Company.

Description: Tennessee Gas Pipeline Company submits for acceptance negotiated rate arrangement, Service Package 72915 with Iberdrola etc to be effective 6/1/09.

Filed Date: 04/30/2009.

Accession Number: 20090501-0025.

Comment Date: 5 p.m. Eastern Time on Tuesday, May 12, 2009.

Docket Numbers: RP96-359-041.

Applicants: Transcontinental Gas Pipe Line Company.

Description: Transcontinental Gas Pipe Line Company, LLC submits amendments to service agreements containing negotiated rates which pertain to Rate Schedule FT.

Filed Date: 04/30/2009.

Accession Number: 20090501-0032.

Comment Date: 5 p.m. Eastern Time on Tuesday, May 12, 2009.

Docket Numbers: RP96-389-092.

Applicants: Columbia Gulf Transmission Company.

Description: Columbia Gulf Transmission Company submits Seventh Revised Sheet 40 et al to its FERC Gas Tariff, Second Revised Volume 1.

Filed Date: 04/30/2009.

Accession Number: 20090501-0027.

Comment Date: 5 p.m. Eastern Time on Tuesday, May 12, 2009.

Docket Numbers: RP96-389-093.

Applicants: Columbia Gulf Transmission Company.

Description: Columbia Gulf Transmission Company submits FTS-1 Service Agreement 68436, Revisions 5 with JP Morgan Ventures Energy Corporation.

Filed Date: 04/30/2009.

Accession Number: 20090501-0028.

Comment Date: 5 p.m. Eastern Time on Tuesday, May 12, 2009.

Docket Numbers: RP99-176-197.

Applicants: Natural Gas Pipeline Co of America LLC.

Description: Natural Gas Pipeline Company of America LLC submits First Revised Sheet 34E.03 et al of its FERC Gas Tariff, Seventh Revised Volume 1 effective 5/1/09.

Filed Date: 04/30/2009.

Accession Number: 20090501-0150.

Comment Date: 5 p.m. Eastern Time on Tuesday, May 12, 2009.

Docket Numbers: RP99-176-198.

Applicants: Natural Gas Pipeline Co of America LLC.

Description: Natural Gas Pipeline Company of America LLC submits Second Revised Sheet 34C.01 of its FERC Gas Tariff, Seventh Revised Volume 1 effective 5/1/09 under RP99-176.

Filed Date: 04/30/2009.

Accession Number: 20090501-0151.

Comment Date: 5 p.m. Eastern Time on Tuesday, May 12, 2009.

Docket Numbers: RP99-220-025.

Applicants: Great Lakes Gas Transmission LP.

Description: Great Lakes Gas Transmission Limited Partnership submits a negotiated rate contract with Integrys Energy Service, Inc commencing 5/1/09.

Filed Date: 04/30/2009.

Accession Number: 20090501-0153.

Comment Date: 5 p.m. Eastern Time on Tuesday, May 12, 2009.

Docket Numbers: RP99-518-110.

Applicants: Gas Transmission Northwest Corporation.

Description: Gas Transmission Northwest Corporation submits Forty-Sixth Revised Sheet 15 et al to its FERC Gas Tariff, Third Revised Volume 1-A.

Filed Date: 04/30/2009.

Accession Number: 20090501-0031.

Comment Date: 5 p.m. Eastern Time on Tuesday, May 12, 2009.

Docket Numbers: RP02-361-076.

Applicants: Gulfstream Natural Gas System, L.L.C.

Description: Gulfstream Natural Gas System, LLC submits Second Revised Sheet 8.0lb to its FERC Gas Tariff, Original Volume 1.

Filed Date: 04/30/2009.

Accession Number: 20090501-0029.

Comment Date: 5 p.m. Eastern Time on Tuesday, May 12, 2009.

Docket Numbers: RP03-36-045.

Applicants: Dauphin Island Gathering Partners.

Description: Dauphin Island Gathering Partners submits Forty-Sixth Revised Sheet 9 to its FERC Gas Tariff, First Revised Volume 1.

Filed Date: 04/30/2009.

Accession Number: 20090501-0159.

Comment Date: 5 p.m. Eastern Time on Tuesday, May 12, 2009.

Docket Numbers: RP05-164-014.

Applicants: Equitrans, LP.

Description: Equitrans, LP submits Fourteenth Revised Sheet 11 to be incorporated in its FERC Gas Tariff, First Revised Volume 1.

Filed Date: 04/30/2009.

Accession Number: 20090501-0156.

Comment Date: 5 p.m. Eastern Time on Tuesday, May 12, 2009.

Docket Numbers: RP09-367-001.

Applicants: MarkWest Pioneer, L.L.C.

Description: MarkWest Pioneer, LLC submits First Revised Sheet 17 et al of its FERC Gas Tariff, Original Volume 1 to be effective 4/1/09.

Filed Date: 04/30/2009.

Accession Number: 20090501-0155.

Comment Date: 5 p.m. Eastern Time on Tuesday, May 12, 2009.

Docket Numbers: RP09-394-002.

Applicants: KO Transmission Company.

Description: KO Transmission Company submits Sub. Fourth Revised Sheet 50 et al FERC Gas Tariff, Original Volume 1.

Filed Date: 04/30/2009.

Accession Number: 20090501-0152.

Comment Date: 5 p.m. Eastern Time on Tuesday, May 12, 2009.

Docket Numbers: RP09-397-002.

Applicants: Columbia Gas Transmission, LLC.

Description: Columbia Gas Transmission, LLC submits Fourth Revised Sheet 25 et al to its FERC Gas Tariff, Third Revised Volume 1.

Filed Date: 04/30/2009.

Accession Number: 20090501-0030.

Comment Date: 5 p.m. Eastern Time on Tuesday, May 12, 2009.

Docket Numbers: RP09-554-000.

Applicants: Midwestern Gas Transmission Company

Description: Midwestern Gas Transmission Company submits Fourteenth Revised Sheet 5 et al to its FERC Gas Tariff, Third Revised Volume 1.

Filed Date: 04/29/2009.

Accession Number: 20090430-0317.

Comment Date: 5 p.m. Eastern Time on Monday, May 11, 2009.

Docket Numbers: RP09-555-000.

Applicants: Tennessee Gas Pipeline Company.

Description: Tennessee Gas Pipeline Company submits a gas transportation agreement between Tennessee and Entergy Louisiana, LLC.

Filed Date: 04/30/2009.

Accession Number: 20090501-0147.

Comment Date: 5 p.m. Eastern Time on Tuesday, May 12, 2009.

Docket Numbers: RP09-556-000.

Applicants: Texas Gas Transmission, LLC.

Description: Texas Gas Transmission, LLC submits First Revised Sheet 1900 of its FERC Gas Tariff, Third Revised Volume 1, to effective 6/1/09.

Filed Date: 04/30/2009

Accession Number: 20090501-0148

Comment Date: 5 p.m. Eastern Time on Tuesday, May 12, 2009.

Docket Numbers: RP09-557-000.

Applicants: Texas Gas Transmission, LLC.

Description: Texas Gas Transmission, LLC submits Third Revised Volume 1 et al., to be effective 5/1/09.

Filed Date: 04/30/2009.

Accession Number: 20090501-0146.

Comment Date: 5 p.m. Eastern Time on Tuesday, May 12, 2009.

Docket Numbers: RP09-558-000.

Applicants: Transcontinental Gas Pipe Line Company.

Description: Transcontinental Gas Pipe Line Co, LLC submits First Revised Sheet No.1 to FERC Gas Tariff, Fourth Revised No. 1 to be effective 6/29/09.

Filed Date: 04/30/2009.

Accession Number: 20090501-0135.

Comment Date: 5 p.m. Eastern Time on Tuesday, May 12, 2009.

Docket Numbers: RP09-560-000.

Applicants: Williston Basin Interstate Pipeline Co.

Description: Williston Basin Interstate Pipeline Co submits Nineteenth Revised Sheet No. 5 et al to FERC Gas Tariff, Second Revised Volume No. 1.

Filed Date: 04/30/2009.

Accession Number: 20090501-0133.

Comment Date: 5 p.m. Eastern Time on Tuesday, May 12, 2009.

Docket Numbers: RP09-561-000.

Applicants: ANR Storage Company.

Description: ANR Storage Company submits Second Revised Sheet 2A for inclusion in ANR Storage's FERC Gas Tariff, Original Volume 1.

Filed Date: 04/30/2009.

Accession Number: 20090501-0149.

Comment Date: 5 p.m. Eastern Time on Tuesday, May 12, 2009.

Docket Numbers: RP09-562-000.

Applicants: National Fuel Gas Supply Corporation.

Description: National Fuel Gas Supply Corporation submits 127th Revised Sheet 9 et al to its FERC Gas Tariff, Fourth Revised Volume 1.

Filed Date: 04/30/2009.

Accession Number: 20090501-0158.

Comment Date: 5 p.m. Eastern Time on Tuesday, May 12, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-10834 Filed 5-8-09; 8:45 am]

BILLING CODE 6717-01-P